DEPARTMENT OF HEALTH AND HUMAN SERVICES

Centers for Medicare and Medicaid Services

[Document Identifier: CMS-10067]

Emergency Clearance: Public Information Collection Requirements Submitted to the Office of Management and Budget (OMB)

AGENCY: Center for Medicare and Medicaid Services, HHS.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with an initiative of the Administration. We cannot reasonably comply with the normal clearance procedures because of an unanticipated event and possible public harm.

It is widely acknowledged that the elderly are going without critical pharmaceutical therapy and that there are morbidity and mortality consequences. The Administration has developed a proposal for paying for prescriptions for low-income elderly Medicaid recipients. This proposal will allow States to run 1115 demonstration projects specifically for a drug benefit for the elderly.

CMS has recently completed work on an innovative, electronic approach for easing the burden of States in applying for participation in the Pharmacy Plus demonstration initiative. We are seeking approval of the forms that would be used to collect data from applicants under this initiative.

The initiative will greatly reduce the time period required for States to develop and apply for demonstration authority; in addition the initiative is intended to expedite the review and approval time required by CMS. The initiative specifies the requirements of States to participate in the initiative—if the criteria are met by the State then deliberation by CMS on the application should be minimal. The result will be an expeditious approval, implementation and operation of demonstration programs that will provide prescription coverage to lessen the morbidity and mortality that is occurring. Without approval of these forms on an emergency basis, millions of Seniors will continue to under-utilize pharmaceutical therapy for chronic and acute morbidity. The use of the forms will expedite prescription coverage and utilization of important medicines.

CMS is requesting OMB review and approval of this collection by January 28, 2003, with a 180-day approval period. Written comments and recommendation will be accepted from the public if received by the individuals designated below by January 27, 2003.

Type of Information Collection Request: New collection; Title of Information Collection: Pharmacy Plus Template for Low Income Seniors under Medicaid; Form No.: CMS-10067 (OMB# 0938-XXXX); Use: The template for the Pharmacy Plus program for low income seniors under Medicaid will enable states to apply, via a standard format, to provide a drug benefit to elderly recipients; use of this format will expedite the process of obtaining CMS review and approval of an application; Frequency: Other: 3 years after initial submission for the 1915 (c) waiver; 5 years after initial submission for the 1115 demonstration; Affected Public: State Government; Number of Respondents: 51; Total Annual Responses: 25; Total Annual Hours: 115.

We have submitted a copy of this notice to OMB for its review of these information collections. A notice will be published in the Federal Register when approval is obtained.

To obtain copies of the supporting statement and any related forms for the proposed paperwork collections referenced above, access CMS' Web Site address at http://www.hcfa.gov/regs/prdact95.htm, or E-mail your request, including your address, phone number, OMB number, and CMS document identifier, to Paperwork@hcfa.gov, or call the Reports Clearance Office on (410) 786-1326.

Interested persons are invited to send comments regarding the burden or any other aspect of these collections of information requirements. However, as noted above, comments on these information collection and recordkeeping requirements must be mailed and/or faxed to the designees referenced below by January 27, 2003:

Centers for Medicare and Medicaid Services, Office of Strategic Operations and Regulatory Affairs, Division of Regulations Development and Issuances, Room C5-16-03, 7500 Security Boulevard, Baltimore, MD 21244-1850. Fax Number: (410) 786-0262. Attn: Julie Brown, CMS-10067. And, Office of Information and Regulatory Affairs, Office of Management and Budget, Room 10235, New Executive Office Building, Washington, DC 20503. Attn.: Brenda Aguilar, CMS Desk Officer.

Dated: January 8, 2003.
Julie Brown,
Acting Paperwork Reduction Act Team Leader and, CMS Reports Clearance Officer, Office of Strategic Operations and Regulatory Affairs, Division of Regulations Development and Issuances.

[FR Doc. 03-910 Filed 1-15-03; 8:45 am]

BILLING CODE 4120-03-P